DEPARTMENT OF COMMERCE

International Trade Administration

[C-423-809]

Stainless Steel Plate in Coils from Belgium: Final Results of Full Sunset Review and Revocation of the Countervailing Duty Order

AGENCY: Import Administration, International Trade Administration, Department of Commerce.

SUMMARY: On June 2, 2010, the Department of Commerce (“the Department”) initiated the second sunset review of the countervailing duty (“CVD”) order on certain stainless steel plate in coils from Belgium (“SSPC” or “subject merchandise”) pursuant to section 751(c) of the Tariff Act of 1930, as amended (“the Act”). On the basis of a notice of intent to participate and an adequate substantive response filed on behalf of the domestic interested parties and adequate substantive responses from ArcelorMittal Stainless Belgium N.V. (“AMS”) and the Government of Belgium (“GOB”), the Department determined to conduct a full sunset review of the CVD order pursuant to section 751(c) of the Act and 19 CFR 351.218(e)(2). As a result of our analysis, the Department finds that revocation of the CVD order would not likely lead to continuation or recurrence of a countervailable subsidy. Therefore, the Department is revoking this CVD order.

DATES: Effective Date: May 5, 2011.

FOR FURTHER INFORMATION CONTACT: Patricia Tran or Jennifer Meek, AD/CVD Operations, Office 1, Import Administration, U.S. Department of Commerce, 14th Street and Constitution Avenue, NW., Washington, DC 20230; telephone: (202) 482-1503 or (202) 482-2778.

SUPPLEMENTARY INFORMATION:

Background

On June 2, 2010, the Department initiated the second sunset review of the CVD order on SSPC from Belgium in accordance with section 751(c) of the Act. See Initiation of Five-Year (“Sunset”) Review, 75 FR 30777 (June 2, 2010).

Within the deadline specified in 19 CFR 351.218(d)(1)(i), the Department received notices of intent to participate on behalf of Allegheny Ludlum Corporation and the United Steel, Paper and Forestry, Rubber, Manufacturing, Energy, Allied Industrial and Service Workers International Union (collectively, “Petitioners”). The submitters claimed interested party status under sections 771(9)(C) and (D) of the Act, as a manufacturer of a domestic like product and as a certified union representing workers in the domestic industry producing certain SSPC, respectively. The Department received a substantive response from Petitioners within the deadline specified in 19 CFR 351.218(d)(3)(i). The Department also received substantive responses in a timely manner from the following respondent interested parties: AMS and the GOB. Timely rebuttal comments were received from Petitioners, AMS and the GOB on July 9, 2010. On July 22, 2010, after analyzing the submissions and rebuttals from interested parties and finding the substantive responses adequate, the Department determined to conduct a full sunset review. See Memorandum from Yasmin Nair, International Trade Compliance Analyst, to Susan H. Kuhbach, Director, AD/CVD Operations, Office 1, entitled “Adequacy Determination in Countervailing Duty Sunset Review of Certain Stainless Steel Plate in Coils from Belgium,” dated July 22, 2010.

On December 27, 2010, the Department issued the preliminary results of the full sunset review, finding a likelihood of continuation or recurrence of subsidization with a net countervailable subsidy likely to prevail of zero percent for AMS and all other companies. See Stainless Steel Plate in Coils From Belgium: Preliminary Results of Full Sunset Review, 75 FR 81217, 81218 (December 27, 2010) (“Preliminary Results”).

Interested parties were invited to comment on our Preliminary Results. The Department received case briefs from Petitioners, the GOB, and AMS within the deadline specified in 19 CFR 351.309(c)(1)(i). On February 16, 2011, the Department returned the case briefs submitted by the GOB and AMS, requesting the briefs to be resubmitted with the removal of certain references to information not on the record of this sunset review. Although both objected to the Department's decision, the GOB and AMS submitted revised versions of their case briefs on February 18, 2011. Timely rebuttal briefs were submitted by Petitioners, the GOB, and AMS.

A public hearing was requested by AMS and was held on Tuesday, March 8, 2011, in accordance with 19 CFR 351.310(c).

On April 7, 2011, the European Union submitted a letter in support of the arguments made by the GOB and AMS.

Scope of the Order

The products covered by the order are imports of certain stainless steel plate in coils. Stainless steel is an alloy steel containing, by weight, 1.2 percent or less of carbon and 10.5 percent or more of chromium, with or without other elements. The subject plate products are flat-rolled products, 254 mm or over in width and 4.75 mm ¹ or more in thickness, in coils, and annealed or otherwise heat treated and pickled or otherwise descaled. The subject plate may also be further processed (e.g., cold-rolled, polished, etc.) provided that it maintains the specified dimensions of plate following such processing. Excluded from the scope of the order are the following: (1) Plate not in coils, (2) plate that is not annealed or otherwise heat treated and pickled or otherwise descaled, (3) sheet and strip, and (4) flat bars.

¹ On May 11, 2007, the Department received a scope inquiry request from U&A Belgium regarding whether the scope of the antidumping (“AD”) and CVD orders on SSPC from Belgium excludes stainless steel products with an actual thickness less than 4.75mm, regardless of its nominal thickness. The Department conducted a scope inquiry applicable to all countries subject to the SSPC AD and CVD orders. In the Department's scope ruling, dated December 3, 2008, the Department determined that SSPC with a nominal thickness of 4.75mm, but with an actual thickness less than 4.75mm, and within the dimensional tolerances for this thickness of plate, is included in the scope of the AD orders on SSPC from Belgium, Italy, South Africa, the Republic of Korea, and Taiwan and CVD orders on SSPC from Belgium and South Africa. See Memorandum from Melissa G. Skinner to Stephen J. Claeys, entitled “Stainless Steel Plate in Coils from Belgium: Final Scope Ruling,” ' dated December 3, 2008.

The merchandise subject to the order is currently classifiable in the Harmonized Tariff Schedule of the United States (“HTSUS”) at subheadings: 7219.11.00.30, 7219.11.00.60, 7219.12.00.05, 7219.12.00.06, 7219.12.00.20, 7219.12.00.21, 7219.12.00.25, 7219.12.00.26, 7219.12.00.50, 7219.12.00.51, 7219.12.00.55, 7219.12.00.56, 7219.12.00.65, 7219.12.00.66, 7219.12.00.70, 7219.12.00.71, 7219.12.00.80, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the Department's written description of the scope of the order remains dispositive.

Analysis of the Comments Received

All issues raised in this review are addressed in the Issues and Decision Memorandum (“Decision Memorandum”) from Christian Marsh, Deputy Assistant Secretary for Antidumping and Countervailing Duty Operations, to Paul Piquado, Acting Deputy Assistant Secretary for Import Administration, dated concurrently with this notice, which is hereby adopted by this notice. Parties can find this public memorandum in the Central Records Unit, Room 7046 of the main Commerce building. In addition, a complete version of the Decision Memorandum can be accessed directly on the Web at http://ia.ita.doc.gov/frn. The paper copy and electronic version of the Decision Memorandum are identical in content.

Changes From the Preliminary Results

As a result of the Department's analysis of received comments, we have made certain changes from the Preliminary Results. The Department finds that three programs which gave rise to net countervailable subsidies and which were determined not to be terminated in the Preliminary Results—Societé Nationale de Crediteà L'Industrie Loans, 1985 Conversion of Sidmar N.V.'s Debt to Equity, and SidInvest—are in fact terminated and that benefit streams from those programs are fully allocated. See Decision Memorandum at Comment 1. Because the Department concludes that all programs previously found countervailable have been terminated and that benefit streams from those programs are fully allocated, we determine that revocation of the CVD order on SSPC from Belgium will not likely lead to continuation or recurrence of a countervailable subsidy. See id.

Final Results of Review

The Department determines that revocation of the CVD order will not likely lead to continuation or recurrence of a countervailable subsidy. As a result, and in accordance with 19 CFR 351.222(i)(2), we are revoking this order effective July 18, 2010, the fifth anniversary of the date of publication in the Federal Register of the most recent notice of continuation of this order. See Continuation of Antidumping Duty Orders on Certain Stainless Steel Plate in Coils From Belgium, Italy, South Korea, South Africa, and Taiwan, and the Countervailing Duty Orders on Certain Stainless Steel Plate in Coils From Belgium, Italy, and South Africa, 70 FR 41202 (July 18, 2005). We will notify the International Trade Commission of these results.

Effective Date of Revocation

Pursuant to section 19 CFR 351.222(i)(2), the Department will instruct U.S. Customs and Border Protection to terminate the suspension of liquidation of the merchandise subject to this order entered, or withdrawn from warehouse, on or after July 18, 2010. Entries of subject merchandise prior to the effective date of revocation will continue to be subject to suspension of liquidation and CVD deposit requirements. The Department will complete any pending administrative reviews of this order and will conduct administrative reviews of subject merchandise entered prior to the effective date of revocation in response to appropriately filed requests for review.

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752, and 777(i)(1) of the Act.

Dated: April 28, 2011.
Paul Piquado,
Acting Deputy Assistant Secretary for Import Administration.

[FR Doc. 2011-11002 Filed 5-4-11; 8:45 am]

BILLING CODE 3510-DS-P